DEPARTMENT OF LABOR

Employment and Training Administration

[TA-W-64,697]

Tower Automotive Operations, USA III, LLC, Including On-Site Workers From Storeroom Solutions, Inc., Including On-Site Leased Workers From Peoplelink, Traverse City, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 9, 2009, applicable to workers of Tower Automotive Operations, USA III, LLC, including on-site leased workers from Peoplelink, Traverse City, Michigan. The notice was published in the Federal Register on March 3, 2009 (74 FR 9278).

At the request of the petitioner, the Department reviewed the certification for workers of the subject firm. The workers are engaged in the production of automotive metal stamping and assemblies.

New information shows that worker separations occurred involving employees of Storeroom Solutions, Inc. employed on-site at the Traverse City, Michigan location of Tower Automotive Operations USA III, LLC.

The Storeroom Solutions, Inc. employees provided various functions supporting the production of automotive metal stamping and assemblies at the Traverse City, Michigan location and were under the control of Tower Automotive at that site.

Based on these findings, the Department is amending this certification to include all workers of Storeroom Solutions, Inc. working on-site at the Traverse City, Michigan location of the subject firm.

The intent of the Department's certification is to include all workers employed at Tower Automotive Operations, USA III, LLC, Traverse City, Michigan who were adversely affected by increased imports of automotive metal stampings and assemblies.

The amended notice applicable to TA-W-64,697 is hereby issued as follows:

All workers of Tower Automotive Operations, USA III, LLC, including on-site workers from Storeroom Solutions, Inc., including on-site leased workers from Peoplelink, Traverse City, Michigan, who became totally or partially separated from employment on or after December 15, 2007 through February 9, 2011, are eligible to apply for adjustment assistance under Section 223 of the Trade Act of 1974, and are also eligible to apply for alternative trade adjustment assistance under Section 246 of the Trade Act of 1974.

Signed at Washington, DC, this 27th day of March 2009.
Richard Church,
Certifying Officer, Division of Trade Adjustment Assistance.

[FR Doc. E9-7801 Filed 4-6-09; 8:45 am]

BILLING CODE 4510-FN-P